DEPARTMENT OF COMMERCE

National Oceanic and Atmospheric Administration

RIN 0648-XV26

North Pacific Fishery Management Council; Public Meetings

AGENCY: National Marine Fisheries Service (NMFS), National Oceanic and Atmospheric Administration (NOAA), Commerce.

ACTION: Notice of public meetings.

SUMMARY: The North Pacific Fishery Management Council (Council) and its advisory committees will hold public meetings in Anchorage, AK.

DATES: The North Pacific Fishery Management Council and its advisory committees will hold public meetings April 6-14, 2010. The Council will begin its plenary session at 8 a.m. on Thursday April 8 continuing through Wednesday April 14. The Council's Advisory Panel (AP) will begin at 8 a.m., Tuesday April 6 and continue through Saturday April 10. The Scientific and Statistical Committee (SSC) will begin at 8 a.m. on Tuesday April 6 and continue through Thursday April 8, 2010. The Enforcement Committee will meet Wednesday April 7 from 9 a.m. to 12 p.m. The Ecosystem Committee will meet Wednesday April 7 from 1 p.m. to 5 p.m. All meetings are open to the public, except executive sessions.

ADDRESSES: The meetings will be held at the Anchorage Hilton Hotel, 500 West 3rd Avenue, Anchorage, AK.

Council address: North Pacific Fishery Management Council, 605 W. 4th Avenue, Suite 306, Anchorage, AK 99501-2252.

FOR FURTHER INFORMATION CONTACT: David Witherell, Council staff; telephone: (907) 271-2809.

SUPPLEMENTARY INFORMATION: Council Plenary Session: The agenda for the Council's plenary session will include the following issues. The Council may take appropriate action on any of the issues identified.

Reports:

1. Executive Director's Report

NMFS Management Report

ADF&G Report

U.S. Coast Guard Report

U.S. Fish & Wildlife Service Report

Protected Species Report

2. Steller Sea Lion Biological Opinion (BiOP) (T): Review BiOp/schedule/process, and take action as necessary.

3. Halibut Charter Permit Endorsements: Review analysis and take final action to clarify permit endorsements.

4. Groundfish Annual Catch Limits (ACL): Receive report from Non-Target Species Committee; Final action on Groundfish ACL requirements.

5. Gulf of Alaska (GOA) Rockfish Program: Initial review of analysis for Central GOA limited access rockfish program.

6. Bering Sea Crab Rationalization Program Issues: Emergency Exemptions from Regionalization - Stakeholder proposals; Final action on Western Aleutian Golden King Crab regional delivery.

7. Crab Management: Preliminary review of BSAI Snow/Tanner crab rebuilding plans; Preliminary review of Pribilof Blue King crab rebuilding plan.

8. Scallop Management: Review Stock Assessment Fishery Evaluation report; preliminary review of scallop ACL analysis.

9. Miscellaneous Groundfish Issues: Initial review of analysis for controlling Gulf of Alaska (GOA) Tanner crab bycatch; review discussion paper on GOA Chinook Salmon Bycatch; review progress on Northern Bering Sea Research Plan; receive Amendment 80 Cooperative report; action as necessary.

10. Miscellaneous Issues: Essential Fish Habitat (EFH) 5 year review, action as necessary; review and adopt Habitats Areas of Particular Concern (HAPC) criteria and priorities; report and action as necessary on Aleutian Island Team terms of reference; rural Community Outreach Report; action as necessary.

11. Staff Tasking: Review Committees and tasking; review process and timing for King crab Electronic Data reporting.

12. Other Business

The SSC agenda will include the following issues:

Steller Sea Lion BiOP

GOA Rockfish

Scallop Management

Miscellaneous Groundfish Issues

Miscellaneous Issues

The Advisory Panel will address most of the same agenda issues as the Council, except for #1 reports, and #3 halibut charter permit endorsements. The Agenda is subject to change, and the latest version will be posted at http://www.alaskafisheries.noaa.gov/npfmc/.

Although non-emergency issues not contained in this agenda may come before this group for discussion, those issues may not be the subject of formal action during this meeting. Action will be restricted to those issues specifically listed in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Gail Bendixen at (907) 271-2809 at least 7 working days prior to the meeting date.

Dated: March 12, 2010.
Tracey L. Thompson,
Acting Director, Office of Sustainable Fisheries, National Marine Fisheries Service.

[FR Doc. 2010-5840 Filed 3-17-10; 8:45 am]

BILLING CODE 3510-22-S